DEPARTMENT OF DEFENSE

Department of the Army; Corps of Engineers

Flood Control, Mississippi River & Tributaries, Yazoo River Basin, Yazoo Headwaters Project, Mississippi Tributaries Unit

AGENCY: Department of the Army, U.S. Army Corps of Engineers, DOD.

ACTION: Notice of intent.

SUMMARY: The U.S. Army Corps of Engineers, Vicksburg District, in conjunction with the Yazoo-Mississippi Delta Levee District, the non-Federal sponsor, is undertaking studies to evaluate the authorized Yazoo Headwaters Project. As part of this work, a Supplemental Environmental Impact Statement (SEIS) is being prepared to update existing National Environmental Policy Act documentation.

DATES: Initiate SEIS, February 2, 2009.

ADDRESSES: Correspondence may be sent to Mr. Matthew Mallard, U.S. Army Engineer District, Vicksburg, CEMVK-PP-PQ, 4155 Clay Street, Vicksburg, MS 39183-3435.

FOR FURTHER INFORMATION CONTACT: Mr. Matthew Mallard at U.S. Army Corps of Engineers, Vicksburg District, telephone (601) 631-5960, fax (601) 631-5115, or e-mail at matthew.s.mallard@usace.army.mil.

SUPPLEMENTARY INFORMATION: Proposed Action. An SEIS will identify and evaluate impacts associated with construction in the remaining authorized Yazoo Tributaries subbasins, including channel improvement, levee construction and enlargement, associated water control structures, bank stabilization, grade control measures, and environmental design features.

Alternatives. Alternative urban and agricultural flood protection measures will be identified to meet existing and future flood protection needs and evaluated in cooperation with state and Federal agencies, local government, and the public.

Scoping. Scoping is the process for determining the range of the alternatives and significant issues to be addressed in the SEIS. For this analysis, a letter will be sent to all parties believed to have an interest in the analysis, requesting their input on alternatives and issues to be evaluated. The letter will also notify interested parties of the public scoping meeting that will be held in the local area. A notice will be sent to the local news media. All interested parties are invited to comment at this time, and anyone interested in the study should request to be included on the mailing list.

A public scoping meeting will be held March 2, 2009, from 7 to 9 p.m. at the Leflore County Civic Center, 200 Highway 7 North, Greenwood, MS 38930, and March 3, 2009, from 7 to 9 p.m. at the Marks Community House, Pecan Street, Marks, MS 38646.

Significant Issues. The tentative list of resources and issues to be evaluated in the SEIS includes aquatic resources, recreational and commercial fisheries, wildlife resources, water quality, air quality, threatened or endangered species, recreation resources, and cultural resources. Tentative socioeconomic items to be evaluated in the SEIS include business and industrial activity, tax revenues, population, community and regional growth, transportation, housing, community cohesion, and navigation.

Environmental Consultation and Review. The U.S. Fish and Wildlife Service (FWS) will be asked to assist in the documentation of existing conditions, impact analysis of alternatives, and overall study review through the Fish and Wildlife Coordination Act (FWCA) consultation procedures. The FWS would provide an FWCA report to be incorporated into the SEIS. The draft SEIS or a Notice of Availability will be distributed to all interested agencies, organizations, and individuals.

Estimated Date of Availability. The earliest that the draft SEIS is expected to be available is September 2012.

Dated: January 13, 2009.
Douglas J. Kamien,
Chief, Planning, Programs, and Project Management Division.

[FR Doc. E9-1627 Filed 1-23-09; 8:45 am]

BILLING CODE 3720-58-P